ENVIRONMENTAL PROTECTION AGENCY

[EPA-HQ-OPP-2022-0164; FRL-10206-01-OCSPP]

SRC, Inc.; Transfer of Data (August 2022)

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to SRC, Inc. in accordance with the CBI regulations. SRC, Inc. has been awarded a contract to perform work for the Office of Pollution Prevention and Toxics (OPPT), and access to this information will enable SRC, Inc. to fulfill the obligations of the contract.

DATES: SRC, Inc. will be given access to this information on or before September 19, 2022.

FOR FURTHER INFORMATION CONTACT: William Northern, Information Technology and Resources Management Division (7502P), Office of Pesticide Programs, Environmental Protection Agency, 1200 Pennsylvania Ave. NW, Washington, DC 20460-0001; telephone number: (202) 566-1493 email address: northern.william@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-EPA-HQ-OPP-2022-0164, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at https://www.epa.gov/dockets.

II. Contractor Requirements

Under Contract No. 68HERH19D0022, Task Order 68HERH19F0230, SRC will review data submitted to OPP under FIFRA for use in risk evaluations that are being developed by OPPT under the Toxic Substance Control Act. The task order ends on June 20, 2024.

This contract involves consultants, but they will not be handling FIFRA CBI under this task.

OPP has determined that the contract described in this document involves work that is being conducted in connection with FIFRA in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contract with SRC, Inc. prohibits use of the information for any purpose not specified in this contract; prohibits disclosure of the information to a third party without prior written approval from the Agency; and requires that each official and employee of the contractor sign an agreement to protect the information from unauthorized release and to handle it in accordance with the FIFRA Information Security Manual. In addition, SRC, Inc. is required to submit for EPA approval a security plan under which any CBI will be secured and protected against unauthorized release or compromise. No information will be provided to SRC, Inc. until the requirements in this document have been fully satisfied. Records of information provided to SRC, Inc. will be maintained by EPA project officers for this contract. All information supplied to SRC, Inc. by EPA for use in connection with the contract will be returned to EPA when SRC, Inc. has completed its work.

Authority: 7 U.S.C. 136 et seq.; 21 U.S.C. 301 et seq.

Dated: September 8, 2022.
Delores Barber,
Director, Information Technology and Resources Management Division, Office of Program Support.

[FR Doc. 2022-19860 Filed 9-13-22; 8:45 am]

BILLING CODE 6560-50-P